DEPARTMENT OF ENERGY

Federal Energy Regulatory Commission

Sunshine Act Meeting

The following notice of meeting is published pursuant to section 3(a) of the government in the Sunshine Act (Pub. L. No. 94-409), 5 U.S.C. 552b:

TIME AND DATE: February 20, 2014, 10 a.m.

PLACE: Room 2C, 888 First Street NE., Washington, DC 20426.

STATUS: OPEN.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1002nd—MEETING
[Regular meeting, February 20, 2014, 10:00 a.m.]
Item No. | Docket No. | Company
Administrative
A-1 | AD02-1-000 | Agency Business Matters.
A-2 | AD02-7-000 | Customer Matters, Reliability, Security and Market Operations.
Electric
E-1 | RM11-24-001, AD10-13-001 | Third-Party Provision of Ancillary Services; Accounting and Financial Reporting for Electric Storage Technologies.
E-2 | PL14-1-000 | Payment of Dividends from Funds Included in Capital Accounts.
E-3 | ER14-623-000 | PJM Interconnection, L.L.C.
E-4 | ER14-552-000 | New York Independent System Operator, Inc.
E-5 | ER12-2292-004 | Southwest Power Pool, Inc.
E-6 | OMITTED
E-7 | ER14-7-000 | Ohio Power Company.
E-8 | EL08-14-010 | Black Oak Energy, L.L.C., EPIC Merchant Energy, L.P. and SESCO Enterprises, L.L.C. v. PJM Interconnection, L.L.C.
E-9 | EL12-12-000 | Allco Renewable Energy Limited v. Massachusetts Electric Company.
E-10 | EL12-104-001 | Interstate Power and Light Company v. ITC Midwest, LLC.
| ER13-2156-000 | Midcontinent Independent System Operator, Inc.
E-11 | EL14-15-000 | Cities of Anaheim, Azusa, Banning, Colton, Pasadena, and Riverside, California v. Trans Bay Cable L.L.C.
| ER13-2412-001, ER13-2412-000 (consolidated) | Trans Bay Cable L.L.C.
E-12 | ER12-2681-000 | ITC Holdings Corp.
| ER12-2681-001 | Entergy Corporation.
| ER12-2681-002 | Midwest Independent Transmission System Operator, Inc.
| ER13-948-001 | Entergy Services, Inc.
| ER13-782-000 | ITC Arkansas LLC.
| ER13-782-001 (consolidated) | ITC Texas LLC, ITC Louisiana LLC, ITC Mississippi LLC.
| ER12-2683-001 | Entergy Services, Inc.
| ER12-2682-000, ER12-2682-001, ER12-2682-002 (not consolidated) | Midcontinent Independent System Operator, Inc.
E-13 | ER12-2693-001 | Entergy Arkansas, Inc., Entergy Gulf States Louisiana L.L.C., Entergy Louisiana, LLC, Entergy Mississippi, Inc., Entergy New Orleans, Inc., Entergy Texas, Inc.
E-14 | ER12-1179-008, ER12-1179-009, ER12-1179-011, ER13-1173-001 | Southwest Power Pool, Inc.
Gas
G-1 | RP13-431-001, RP13-431-002 | Dominion Transmission, Inc.
Hydro
H-1 | P-3633-040, CD14-9-001 | KC Brighton LLC.
H-2 | P-2114-209 | Public Utility District No. 2 of Grant County, Washington.
Certificates
C-1 | CP13-8-001 | Columbia Gas Transmission, LLC.
C-2 | CP14-12-000 | Sabine Pass Liquefaction, LLC, Sabine Pass LNG, L.P.

Issued February 12, 2014.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-03653 Filed 2-14-14; 4:15 pm]

BILLING CODE 6717-01-M